DEPARTMENT OF TRANSPORTATION

Federal Aviation Administration

Fourth Meeting: RTCA Special Committee 206: Aeronautical Information Services Data Link

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held April 3-April 7, 2006, from 9 a.m. to 5 p.m.

ADDRESSES: The meeting will be held at ICAO Headquarters, 999 University Street, Montréal, Québec, Canada, H3C 5H7. Onsite Contact: Mr. Aleks Pavlovic, apavlovic@icao.int, Tel. (514) 298-3302.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 206 meeting. The agenda will include:

• April 3:

• Opening Session (Chairman's Address, Welcome, Introductory and Administrative Remarks, Review Agenda, Approve Minutes, Flight Safety Foundation Opportunity, Action Item Review).

• Session on Joint Activities.

• Presentations and Discussions.

• April 4:

• Breakout in Subgroup 1 and Subgroup 2.

• April 5:

• Subgroup 1 and Subgroup 2 Meetings.

• Status Report of both Subgroup Sessions.

• April 6:

• Subgroup 1 and Subgroup 2 Meetings.

• April 7:

• Subgroup 1 and Subgroup 2 Meetings.

• Closing Session (Other Business, Chairman Wrap Up and Conclusions, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 17, 2006.
Francisco Estrada C.,
RTCA Advisory Committee.

[FR Doc. 06-2010 Filed 3-2-06; 8:45 am]

BILLING CODE 4910-13-M